ENVIRONMENTAL PROTECTION AGENCY

40 CFR Part 180

[EPA-HQ-OPP-2011-0369; FRL-8874-3]

Amitraz, Bentazon, Bifenthrin, Chlorfenapyr, Cyfluthrin, Deltamethrin, et al.; Proposed Tolerance Actions

AGENCY: Environmental Protection Agency (EPA).

ACTION: Proposed rule.

SUMMARY: In accordance with current Agency practice to describe more clearly the measurement and scope or coverage of tolerances, EPA is proposing minor revisions to tolerance expressions for a number of pesticide active ingredients, including the insecticides amitraz, bifenthrin, chlorfenapyr, cyfluthrin, deltamethrin, esfenvalerate, fenpropathrin, and pyridaben; the fungicide metalaxyl; the herbicides bentazon, quizalofop ethyl, sodium acifluorfen, and tebuthiuron; and the plant growth regulator ethephon. Also, EPA proposes to remove several expired tolerances for quizalofop ethyl.

DATES: Comments must be received on or before August 15, 2011.

ADDRESSES: Submit your comments, identified by docket identification (ID) number EPA-HQ-OPP-2011-0369, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2011-0369. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Joseph Nevola, Pesticide Re-evaluation Division (7508P), Office of Pesticide Programs, Environmental Protection Agency, 1200 Pennsylvania Ave., NW., Washington, DC 20460-0001; telephone number: (703) 308-8037; e-mail address: nevola.joseph@epa.gov.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in Unit II.A. If you have any questions regarding the applicability of this action to a particular entity, consult the person listed under FOR FURTHER INFORMATION CONTACT.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

A. What action is the agency taking?

In accordance with current Agency practice to describe more clearly the measurement and scope or coverage of tolerances, including applicable metabolites and degradates, EPA is proposing minor revisions to tolerance expressions for a number of pesticide active ingredients, including the insecticides amitraz, bifenthrin, chlorfenapyr, cyfluthrin, deltamethrin, esfenvalerate, fenpropathrin, and pyridaben; the fungicide metalaxyl; the herbicides bentazon, quizalofop ethyl, sodium acifluorfen, and tebuthiuron; and the plant growth regulator ethephon. The revisions will not substantively change the tolerance or, in any way, modify the permissible level of residues permitted by the tolerance. Also, EPA proposes to remove several expired tolerances for quizalofop ethyl.

The amendments to the Federal Food, Drug, and Cosmetic Act (FFDCA) section 408 in the Food Quality Protection Act of 1996 clarified that a tolerance regulation for a pesticide chemical applies to that chemical as well as all metabolites and degradates of that chemical unless EPA specifies otherwise (21 U.S.C. 346a(a)(3)(C)). These amendments also specified how compliance with a tolerance level was to be determined when a metabolite or degradate of a pesticide chemical not specifically mentioned in the tolerance was found in a food (21 U.S.C. 346a(a)(3)(B)). In light of these changes, EPA now generally follows an approach for drafting tolerance expressions that makes clear that the tolerance applies not only to the parent chemical but also to its metabolites and degradates and also specifies precisely what chemical moieties are to be measured in determining compliance with the tolerance levels included in the tolerance regulation. This approach ensures that there is no confusion regarding what chemical moieties are authorized in food by the tolerance or how compliance with the tolerance levels is to be determined. Under this approach, tolerance expressions would follow this general form:

Tolerances are established for residues of the [ insecticide, herbicide, fungicide, as appropriate] [pesticide chemical name], including its metabolites and degradates, in or on the commodities in the table in this paragraph. Compliance with the tolerance levels specified in this paragraph is to be determined by measuring only [the designated chemical moieties], in or on the commodity.

This model has been followed for all of the pesticides named in this unit, and the actual language is set out in the proposed regulation text at the end of this document. The only additional changes proposed in this action are with regard to the pesticides bifenthrin, chlorfenapyr, cyfluthrin, and deltamethrin, and they are at the end of this document.

Certain time-limited tolerances pertaining to the pesticide quizalofop ethyl in 40 CFR 180.441(a)(4) have expired, on June 14, 1999, due to previous EPA regulation setting expiration dates. Therefore, the Agency is proposing to remove the expired time-limited tolerances for quizalofop ethyl in 40 CFR 180.441(a)(4) on beet, sugar, molasses; beet, sugar, roots; beet, sugar, tops; vegetable, foliage of legume, except soybean, subgroup 7A; and vegetable, legume, group 6. This rule only corrects the Code of Federal Regulations to conform with the fact that the tolerances already expired, and therefore EPA is not accepting comments regarding the expiration itself.

B. What is the agency's authority for taking this action?

A “tolerance” represents the maximum level for residues of pesticide chemicals legally allowed in or on raw agricultural commodities and processed foods. Section 408 of FFDCA, 21 U.S.C. 346a, as amended by FQPA of 1996, Public Law 104-170, authorizes the establishment of tolerances, exemptions from tolerance requirements, modifications in tolerances, and revocation of tolerances for residues of pesticide chemicals in or on raw agricultural commodities and processed foods. Without a tolerance or exemption, food containing pesticide residues is considered to be unsafe and therefore “adulterated” under section 402(a) of FFDCA, 21 U.S.C. 342(a). Such food may not be distributed in interstate commerce (21 U.S.C. 331(a)). For a food-use pesticide to be sold and distributed, the pesticide must not only have appropriate tolerances under the FFDCA, but also must be registered under FIFRA (7 U.S.C. 136 et seq.). Food-use pesticides not registered in the United States must have tolerances in order for commodities treated with those pesticides to be imported into the United States.

EPA's general practice is to propose revocation of tolerances for residues of pesticide active ingredients on crops for which FIFRA registrations no longer exist and on which the pesticide may therefore no longer be used in the United States. EPA has historically been concerned that retention of tolerances that are not necessary to cover residues in or on legally treated foods may encourage misuse of pesticides within the United States. Nonetheless, EPA will establish and maintain tolerances even when corresponding domestic uses are canceled if the tolerances, which EPA refers to as “import tolerances,” are necessary to allow importation into the United States of food containing such pesticide residues. However, where there are no imported commodities that require these import tolerances, the Agency believes it is appropriate to revoke tolerances for unregistered pesticides in order to prevent potential misuse.

Furthermore, as a general matter, the Agency believes that retention of import tolerances not needed to cover any imported food may result in unnecessary restriction on trade of pesticides and foods. Under section 408 of FFDCA, a tolerance may only be established or maintained if EPA determines that the tolerance is safe based on a number of factors, including an assessment of the aggregate exposure to the pesticide and an assessment of the cumulative effects of such pesticide and other substances that have a common mechanism of toxicity. In doing so, EPA must consider potential contributions to such exposure from all tolerances. If the cumulative risk is such that the tolerances in aggregate are not safe, then every one of these tolerances is potentially vulnerable to revocation. Furthermore, if unneeded tolerances are included in the aggregate and cumulative risk assessments, the estimated exposure to the pesticide would be inflated. Consequently, it may be more difficult for others to obtain needed tolerances or to register needed new uses. To avoid potential trade restrictions, the Agency is proposing to revoke tolerances for residues on crops uses for which FIFRA registrations no longer exist, unless someone expresses a need for such tolerances. Through this proposed rule, the Agency is inviting individuals who need these import tolerances to identify themselves and the tolerances that are needed to cover imported commodities.

Parties interested in retention of the tolerances should be aware that additional data may be needed to support retention. These parties should be aware that, under FFDCA section 408(f), if the Agency determines that additional information is reasonably required to support the continuation of a tolerance, EPA may require that parties interested in maintaining the tolerances provide the necessary information. If the requisite information is not submitted, EPA may issue an order revoking the tolerance at issue.

C. When do these actions become effective?

EPA is proposing that revision of specific tolerance expressions and removal of expired tolerances for quizalofop ethyl proposed herein become effective on the date of publication of the final rule in the Federal Register. If you have comments, please submit comments as described under SUPPLEMENTARY INFORMATION.

Any commodities listed in this proposal treated with the pesticides subject to this proposal, and in the channels of trade following the tolerance revocations, shall be subject to FFDCA section 408(1)(5), as established by FQPA. Under this unit, any residues of these pesticides in or on such food shall not render the food adulterated so long as it is shown to the satisfaction of the Food and Drug Administration that:

1. The residue is present as the result of an application or use of the pesticide at a time and in a manner that was lawful under FIFRA, and

2. The residue does not exceed the level that was authorized at the time of the application or use to be present on the food under a tolerance or exemption from tolerance. Evidence to show that food was lawfully treated may include records that verify the dates when the pesticide was applied to such food.

III. International Residue Limits

In making its tolerance decisions, EPA seeks to harmonize U.S. tolerances with international standards whenever possible, consistent with U.S. food safety standards and agricultural practices. EPA considers the international maximum residue limits (MRLs) established by the Codex Alimentarius Commission (Codex), as required by FFDCA section 408(b)(4). The Codex Alimentarius is a joint U.N. Food and Agriculture Organization/World Health Organization food standards program, and it is recognized as an international food safety standards-setting organization in trade agreements to which the United States is a party. EPA may establish a tolerance that is different from a Codex MRL; however, FFDCA section 408(b)(4) requires that EPA explain the reasons for departing from the Codex level.

The Codex has not established a MRL for chlorfenapyr, pyridaben, quizalofop ethyl, sodium acifluorfen, and tebuthiuron.

The Codex has established MRLs for amitraz in or on various commodities including edible offal of pigs at 0.2 milligram/kilograms (mg/kg). The MRL is different than the tolerance established for amitraz in the United States because of differences in residue definition, use patterns, and/or good agricultural practices.

The Codex has established MRLs for bentazon in or on various commodities including maize at 0.2 mg/kg, milk at 0.05 mg/kg, rice at 0.1 mg/kg, and sorghum at 0.1 mg/kg. These MRLs are different than the tolerance established for bentazon in the United States because of differences in animal commodity residue definition, plant use patterns, and/or good agricultural practices.

The Codex has established MRLs for bifenthrin in or on various commodities including cattle fat at 0.5 mg/kg; cattle kidney and cattle liver at 0.05 mg/kg; cattle milk at 0.05 mg/kg; chicken eggs at 0.01 mg/kg; maize fodder at 0.2 mg/kg; and strawberry at 1 mg/kg. These MRLs are different than the tolerances established for bifenthrin in the United States (where these commodity tolerances are higher than the corresponding Codex MRLs) because of differences in use patterns and/or good agricultural practices.

The Codex has established MRLs for cyfluthrin (sum of isomers) and beta-cyfluthrin (cyfluthrin sum of isomers) in or on various commodities including citrus fruits at 0.3 mg/kg, citrus pulp (dry) at 2 mg/kg, liver of pigs at 0.05 mg/kg, meat (from mammals other than marine mammals) at 1 mg/kg, fat of meat at 1 mg/kg, and chili peppers (dry) at 1 mg/kg. These MRLs are different than the tolerances established for cyfluthrin and beta-cyfluthrin in the United States because of differences in use patterns and/or good agricultural practices.

The Codex has established MRLs for deltamethrin in or on various commodities including fat from mammals other than marine mammals at 0.5 mg/kg, poultry fat at 0.1 mg/kg, and tomato at 0.3 mg/kg. These MRLs are different than the tolerances established for deltamethrin in the United States because of differences in use patterns and/or good agricultural practices.

The Codex has established MRLs for esfenvalerate in or on various commodities including egg, poultry fat, poultry meat, and edible offal of poultry at 0.01 mg/kg. These MRLs are different than the tolerances established for esfenvalerate in the United States (where these animal commodity tolerances are higher than the corresponding Codex MRLs) because of differences in use patterns and/or good agricultural practices.

The Codex has established MRLs for ethephon in or on various commodities including meat of cattle, goats, horses, pigs, and sheep at 0.1 mg/kg, milk of cattle, goats, and sheep at 0.05 mg/kg, poultry meat at 0.1 mg/kg, edible offal of poultry at 0.2 mg/kg, and chicken eggs at 0.2 mg/kg. These MRLs are different than the tolerances established for ethephon in the United States because of differences in use patterns and/or good agricultural practices.

The Codex has established MRLs for fenpropathrin in or on various commodities including cattle meat at 0.5 mg/kg. The MRL is different than the tolerance established for fenpropathrin in the United States because of differences in use patterns and/or good agricultural practices.

The Codex has established MRLs for metalaxyl in or on various commodities including citrus fruits at 5 mg/kg, dry chili peppers at 10 mg/kg, and pome fruits at 1 mg/kg. These MRLs are different than the tolerances established for metalaxyl in the United States because of differences in use patterns and/or good agricultural practices.

IV. Statutory and Executive Order Reviews

In this proposed rule, EPA is proposing to revise specific tolerance expressions to describe more clearly the measurement and scope or coverage of the tolerances and remove expired tolerances for quizalofop ethyl. The Office of Management and Budget (OMB) has exempted these types of actions (e.g., tolerance actions for which extraordinary circumstances do not exist) from review under Executive Order 12866, entitled Regulatory Planning and Review (58 FR 51735, October 4, 1993). Because this proposed rule has been exempted from review under Executive Order 12866 due to its lack of significance, this proposed rule is not subject to Executive Order 13211, entitled Actions Concerning Regulations That Significantly Affect Energy Supply, Distribution, or Use (66 FR 28355, May 22, 2001). This proposed rule does not contain any information collections subject to OMB approval under the Paperwork Reduction Act (PRA), 44 U.S.C. 3501 et seq., or impose any enforceable duty or contain any unfunded mandate as described under Title II of the Unfunded Mandates Reform Act of 1995 (UMRA) (Pub. L. 104-4). Nor does it require any special considerations as required by Executive Order 12898, entitled Federal Actions to Address Environmental Justice in Minority Populations and Low-Income Populations (59 FR 7629, February 16, 1994); or OMB review or any other Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). Pursuant to the Regulatory Flexibility Act (RFA) (5 U.S.C. 601 et seq.), the Agency previously assessed whether establishment of tolerances, exemptions from tolerances, raising of tolerance levels, expansion of exemptions, or revocations might significantly impact a substantial number of small entities and concluded that, as a general matter, these actions do not impose a significant economic impact on a substantial number of small entities. These analyses for tolerance establishments and modifications, and for tolerance revocations were published on May 4, 1981 (46 FR 24950) and on December 17, 1997 (62 FR 66020) (FRL-5753-1), respectively, and were provided to the Chief Counsel for Advocacy of the Small Business Administration. Taking into account this analysis, and available information concerning the pesticides listed in this proposed rule, the Agency hereby certifies that this proposed rule will not have a significant negative economic impact on a substantial number of small entities. In a memorandum dated May 25, 2001, EPA determined that eight conditions must all be satisfied in order for an import tolerance or tolerance exemption revocation to adversely affect a significant number of small entity importers, and that there is a negligible joint probability of all eight conditions holding simultaneously with respect to any particular revocation. (This Agency document is available in the docket of this proposed rule). Furthermore, for the pesticide named in this proposed rule, the Agency knows of no extraordinary circumstances that exist as to the present proposal that would change the EPA's previous analysis. Any comments about the Agency's determination should be submitted to the EPA along with comments on the proposal, and will be addressed prior to issuing a final rule. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive order to include regulations that have “substantial direct effects on the States, on the relationship between the national government and the States, or on the distribution of power and responsibilities among the various levels of government.” This proposed rule directly regulates growers, food processors, food handlers, and food retailers, not States. This action does not alter the relationships or distribution of power and responsibilities established by Congress in the preemption provisions of section 408(n)(4) of FFDCA. For these same reasons, the Agency has determined that this proposed rule does not have any “Tribal implications” as described in Executive Order 13175, entitled Consultation and Coordination with Indian Tribal Governments (65 FR 67249, November 9, 2000). Executive Order 13175 requires EPA to develop an accountable process to ensure “meaningful and timely input by Tribal officials in the development of regulatory policies that have Tribal implications.” “Policies that have Tribal implications” is defined in the Executive order to include regulations that have “substantial direct effects on one or more Indian Tribes, on the relationship between the Federal Government and the Indian Tribes, or on the distribution of power and responsibilities between the Federal Government and Indian Tribes.” This proposed rule will not have substantial direct effects on Tribal governments, on the relationship between the Federal Government and Indian Tribes, or on the distribution of power and responsibilities between the Federal Government and Indian Tribes, as specified in Executive Order 13175. Thus, Executive Order 13175 does not apply to this proposed rule.

List of Subjects in 40 CFR Part 180

Environmental protection, Administrative practice and procedure, Agricultural commodities, Pesticides and pests, Reporting and recordkeeping requirements.

Dated: June 6, 2011.
Steven Bradbury,
Director, Office of Pesticide Programs.

Therefore, it is proposed that 40 CFR chapter I be amended as follows:

PART 180—[AMENDED]

1. The authority citation for part 180 continues to read as follows:

Authority: 21 U.S.C. 321(q), 346a and 371.

2. In § 180.287 revise the introductory text in paragraph (a) to read as follows:

§ 180.287 Amitraz; tolerances for residues.

(a) General. Tolerances are established for residues of the insecticide amitraz, including its metabolites and degradates, in or on the commodities in the table in this paragraph. Compliance with the tolerance levels specified in this paragraph is to be determined by measuring only those amitraz, N ′-[2,4-dimethylphenyl]-N-[[(2,4-dimethylphenyl)imino]methyl]-N-methylmethanimidamide, residues convertible to 2,4-dimethylaniline, expressed as the stoichiometric equivalent of amitraz, in or on the commodity.

* * * * *

3. Section 180.300 is amended as follows:

i. Revise the introductory text in paragraph (a);

ii. Revise paragraph (c).

The revised text reads as follows:

§ 180.300 Ethephon; tolerances for residues.

(a) General. Tolerances are established for residues of the plant growth regulator ethephon, including its metabolites and degradates, in or on the commodities in the table in this paragraph. Compliance with the tolerance levels specified in this paragraph is to be determined by measuring only ethephon, (P)-(2-chloroethyl)phosphonic acid, in or on the commodity.

* * * * *

(c) Tolerances with regional registrations. A tolerance with regional registration, as defined in § 180.1(l), of 0.1 parts per million is established for residues of the plant growth regulator ethephon, including its metabolites and degradates, in or on the commodity sugarcane. Compliance with the tolerance level specified in this paragraph is to be determined by measuring only ethephon, (P)-(2-chloroethyl)phosphonic acid, in or on the commodity.

* * * * *

4. Section 180.355 is amended as follows:

i. Revise the introductory text in paragraph (a)(1);

ii. Revise the introductory text in paragraph (a)(2);

iii. Revise the introductory text in paragraph (c).

The revised text reads as follows:

§ 180.355 Bentazon; tolerances for residues.

(a) * * * (1) Tolerances are established for residues of the herbicide bentazon, including its metabolites and degradates, in or on the commodities in the table in this paragraph. Compliance with the tolerance levels specified in this paragraph is to be determined by measuring only the sum of bentazon, 3-(1-methylethyl)-1H-2,1,3-benzothiadiazin-4(3H)-one 2,2-dioxide, and its metabolites, 6-hydroxy bentazon and 8-hydroxy bentazon, calculated as the stoichiometric equivalent of bentazon, in or on the commodity.

* * * * *

(2) Tolerances are established for residues of the herbicide bentazon, including its metabolites and degradates, in or on the commodities in the table in this paragraph. Compliance with the tolerance levels specified in this paragraph is to be determined by measuring only the sum of bentazon, 3-(1-methylethyl)-1H-2,1,3-benzothiadiazin-4(3H)-one 2,2-dioxide, and its metabolite 2-amino-N-isopropyl benzamide (AIBA), calculated as the stoichiometric equivalent of bentazon, in or on the commodity.

* * * * *

(c) Tolerances with regional registrations. Tolerances with regional registration, as defined in § 180.1(l), are established for residues of the herbicide bentazon, including its metabolites and degradates, in or on the commodities in the table in this paragraph. Compliance with the tolerance levels specified in this paragraph is to be determined by measuring only the sum of bentazon, 3-(1-methylethyl)-1H-2,1,3-benzothiadiazin-4(3H)-one 2,2-dioxide, and its metabolites, 6-hydroxy bentazon and 8-hydroxy bentazon, calculated as the stoichiometric equivalent of bentazon, in or on the commodity.

* * * * *

5. In § 180.383 revise the introductory text in paragraph (a) to read as follows:

§ 180.383 Sodium salt of acifluorfen; tolerances for residues.

(a) General. Tolerances are established for residues of the herbicide sodium acifluorfen, including its metabolites and degradates, in or on the commodities in the table in this paragraph. Compliance with the tolerance levels specified in this paragraph is to be determined by measuring only the sum of acifluorfen acid, 5-[2-chloro-4-(trifluoromethyl)phenoxy]-2-nitrobenzoic acid, acifluorfen methyl, methyl 5-[2-chloro-4-(trifluoromethyl)phenoxy]-2-nitrobenzoate, acifluorfen amine, 5-[2-chloro-4-(trifluoromethyl)phenoxy]-2-aminobenzoic acid, and acifluorfen amine methyl ester, methyl 5-[2-chloro-4-(trifluoromethyl)phenoxy]-2-aminobenzoate, calculated as the stoichiometric equivalent of acifluorfen acid, in or on the commodity.

* * * * *

6. Section 180.390 is amended as follows:

i. Revise the introductory text in paragraph (a)(1);

ii. Revise the introductory text in paragraph (a)(2);

iii. Revise the introductory text in paragraph (a)(3).

The revised text reads as follows:

§ 180.390 Tebuthiuron; tolerances for residues.

(a) * * * (1) Tolerances are established for residues of the herbicide tebuthiuron, including its metabolites and degradates, in or on the commodities in the table in this paragraph. Compliance with the tolerance levels specified in this paragraph is to be determined by measuring only the sum of tebuthiuron, N-[5-(1,1-dimethylethyl)-1,3,4-thiadiazol-2-yl]-N,N ′-dimethylurea, and its metabolites N-[5-(2-hydroxy-1,1-dimethylethyl)-1,3,4-thiadiazol-2-yl]-N,N ′-dimethylurea, N-[5-(1,1-dimethylethyl)-1,3,4-thiadiazol-2-yl]-N-methylurea, and N-[5-(1,1-dimethylethyl)-1,3,4-thiadiazol-2-yl]-N ′-hydroxymethyl-N-methylurea, calculated as the stoichiometric equivalent of tebuthiuron, in or on the commodity.

* * * * *

(2) Tolerances are established for residues of the herbicide tebuthiuron, including its metabolites and degradates, in or on the commodities in the table in this paragraph. Compliance with the tolerance levels specified in this paragraph is to be determined by measuring only the sum of tebuthiuron, N-[5-(1,1-dimethylethyl)-1,3,4-thiadiazol-2-yl]-N,N ′-dimethylurea, and its metabolites N-[5-(1,1-dimethylethyl)-1,3,4-thiadiazol-2-yl]-N-methylurea, N-[5-(1,1-dimethylethyl)-1,3,4-thiadiazol-2-yl]urea, 2-dimethylethyl-5-amino-1,3,4-thiadiazole, and N-[5-(1,1-dimethylethyl)-1,3,4-thiadiazol-2-yl]-N ′-hydroxymethyl-N-methylurea, calculated as the stoichiometric equivalent of tebuthiuron, in or on the commodity.

* * * * *

(3) A tolerance is established for residues of the herbicide tebuthiuron, including its metabolites and degradates, in or on the commodity in the table in this paragraph. Compliance with the tolerance level specified in this paragraph is to be determined by measuring only the sum of tebuthiuron, N-[5-(1,1-dimethylethyl)-1,3,4-thiadiazol-2-yl]-N,N ′-dimethylurea, and its metabolites N-[5-(1,1-dimethylethyl)-1,3,4-thiadiazol-2-yl]-N-methylurea, N-[5-(2-hydroxy-1,1-dimethylethyl)-1,3,4-thiadiazol-2-yl]-N-methylurea, N-[5-(1,1-dimethylethyl)-1,3,4-thiadiazol-2-yl]urea, N-[5-(1,1-dimethylethyl)-1,3,4-thiadiazol-2-yl]-N ′-hydroxymethyl-N-methylurea, and N-[5-(2-hydroxy-1,1-dimethylethyl)-1,3,4-thiadiazol-2-yl]-N ′-hydroxymethyl-N-methylurea, calculated as the stoichiometric equivalent of tebuthiuron, in milk.

* * * * *

7. Section 180.408 is amended as follows:

i. Revise the introductory text in paragraph (a);

ii. Revise the introductory text in paragraph (c);

iii. Revise the introductory text in paragraph (d).

The revised text reads as follows:

§ 180.408 Metalaxyl; tolerances for residues.

(a) General. Tolerances are established for residues of the fungicide metalaxyl, including its metabolites and degradates, in or on the commodities in the table in this paragraph. Compliance with the tolerance levels specified in this paragraph is to be determined by measuring only metalaxyl, methyl N-(2,6-dimethylphenyl)-N-(methoxyacetyl)-DL-alaninate, in or on the commodity.

* * * * *

(c) Tolerances with regional registrations. A tolerance with a regional registration, as defined in § 180.1(l), is established for residues of the fungicide metalaxyl, including its metabolites and degradates, in or on the commodity in the table in this paragraph. Compliance with the tolerance level specified in this paragraph is to be determined by measuring only metalaxyl, methyl N-(2,6-dimethylphenyl)-N-(methoxyacetyl)-DL-alaninate, in or on the commodity.

* * * * *

(d) Indirect or inadvertent tolerances. Tolerances are established for indirect or inadvertent residues of the fungicide metalaxyl, including its metabolites and degradates, in or on the commodities in the table in this paragraph when present therein as a result of the application of metalaxyl to growing crops listed in paragraph (a) of this section and other non-food crops. Compliance with the tolerance levels specified in this paragraph is to be determined by measuring only metalaxyl, methyl N-(2,6-dimethylphenyl)-N-(methoxyacetyl)-DL-alaninate, in or on the commodity.

* * * * *

8. Section 180.435 is amended as follows:

i. Revise the introductory text in paragraph (a)(1);

ii. Revise paragraph (a)(2).

The revised text reads as follows:

§ 180.435 Deltamethrin; tolerances for residues.

(a) * * * (1) Tolerances are established for residues of the insecticide deltamethrin, including its metabolites and degradates, in or on the commodities in the table in this paragraph. Compliance with the tolerance levels specified in this paragraph is to be determined by measuring only the sum of deltamethrin, (S)-cyano(3-phenoxyphenyl)methyl (1R,3R)-3-(2,2-dibromoethenyl)-2,2-dimethylcyclopropanecarboxylate, and its major metabolites, trans deltamethrin, (S)-alpha-cyano-m-phenoxybenzyl (1R,3S)-3-(2,2-dibromovinyl)-2,2-dimethylcyclopropanecarboxylate and alpha-R-deltamethrin, (R)-alpha-cyano-m-phenoxybenzyl (1R,3R)-3-(2,2-dibromovinyl)-2,2-dimethylcyclopropanecarboxylate, calculated as the stoichiometric equivalent of deltamethrin, in or on the commodity.

* * * * *

(2) A tolerance of 0.05 parts per million is established for residues of the insecticide deltamethrin, including its metabolites and degradates, in or on all food/feed commodities (other than those covered by a higher tolerance as a result of use on growing crops) when present from application of deltamethrin in food/feed handling establishments (including food service, manufacturing and processing establishments, such as restaurants, cafeterias, supermarkets, bakeries, breweries, dairies, meat slaughtering and packing plants, and canneries, feed handling establishments including feed manufacturing and processing establishments), in accordance with the following conditions: Application shall be limited to general surface and spot and/or crack and crevice treatment in food/feed handling establishments where food/feed and food/feed products are held, processed, prepared, and served; general surface application may be used only when the facility is not in operation, provided exposed food/feed has been covered or removed from the area being treated; spot and/or crack and crevice application may be used while the facility is in operation provided exposed food/feed is covered or removed from the area being treated prior to application; spray concentration shall be limited to a maximum of 0.06 percent active ingredient; and contamination of food/feed or food/feed contact surfaces shall be avoided. Compliance with the tolerance level specified in this paragraph is to be determined by measuring only the sum of deltamethrin, (S)-cyano(3-phenoxyphenyl)methyl (1R,3R)-3-(2,2-dibromoethenyl)-2,2-dimethylcyclopropanecarboxylate, and its major metabolites, trans deltamethrin, (S)-alpha-cyano-m-phenoxybenzyl (1R,3S)-3-(2,2-dibromovinyl)-2,2-dimethylcyclopropanecarboxylate and alpha-R-deltamethrin, (R)-alpha-cyano-m-phenoxybenzyl (1R,3R)-3-(2,2-dibromovinyl)-2,2-dimethylcyclopropanecarboxylate, calculated as the stoichiometric equivalent of deltamethrin, in or on the commodity.

* * * * *

9. Section 180.436 is amended as follows:

i. Revise the introductory text in paragraph (a)(1);

ii. Revise paragraph (a)(2);

iii. Revise paragraph (a)(3);

iv. Revise the introductory text in paragraph (a)(4).

The revised text reads as follows:

§ 180.436 Cyfluthrin and the isomer beta-cyfluthrin; tolerances for residues.

(a) * * * (1) Tolerances are established for residues of the insecticide cyfluthrin, including its metabolites and degradates, in or on the commodities in the table in this paragraph. Compliance with the tolerance levels specified in this paragraph is to be determined by measuring only cyfluthrin, cyano(4-fluoro-3-phenoxyphenyl)methyl 3-(2,2-dichloroethenyl)-2,2-dimethylcyclopropanecarboxylate, in or on the commodity.

* * * * *

(2) A tolerance of 0.05 parts per million is established for residues of the insecticide cyfluthrin, including its metabolites and degradates, in or on food commodities exposed to the insecticide during treatment of food-handling establishments where food and food products are held, processed, prepared, or served, where treatments may be made by general surface, spot, and/or crack and crevice applications, in accordance with the following conditions: General surface treatments shall be limited to a maximum of 3.8 grams of active ingredient per 1,000 square feet, applying to walls, floors, and ceilings with a low-pressure system; all food processing and/or handling equipment has been covered or removed during application; application excludes any direct application to food products; reapplications may be made at 10-day intervals. Crack and crevice or spot treatments shall be limited to a maximum of 0.1 percent of the active ingredient by weight, applied with a low-pressure system with a pinpoint or variable-pattern nozzle. Dust formulation shall be limited to a maximum of 0.1 percent of the active ingredient by weight, applied using a hand duster, powder duster, or other equipment capable of applying dust insecticide directly into voids and cracks and crevices. Dust applications should be made in a manner to avoid deposits on exposed surfaces or introducing the material into the air. Application may be made provided exposed food has been covered or removed from premises and excludes any direct application to food. Reapplications may be made at 10-day intervals. Compliance with the tolerance level specified in this paragraph is to be determined by measuring only cyfluthrin, cyano(4-fluoro-3-phenoxyphenyl)methyl 3-(2,2-dichloroethenyl)-2,2-dimethylcyclopropanecarboxylate, in or on the commodity.

(3) A tolerance of 0.05 parts per million is established for residues of the insecticide cyfluthrin, including its metabolites and degradates, in or on feed commodities exposed to the insecticide during treatment of feed-handling establishments where feed and feed products are held, processed, prepared, or served, where treatments may be made by general surface, spot, and/or crack and crevice applications, in accordance with the following conditions: General surface treatments shall be limited to a maximum of 3.8 grams of active ingredient per 1,000 square feet, applying to walls, floors, and ceilings with a low-pressure system; all feed processing and/or handling equipment has been covered or removed during application; application excludes any direct application to feed products; reapplications may be made at 10-day intervals. Crack and crevice or spot treatments shall be limited to a maximum of 0.1 percent of the active ingredient by weight, applied with a low-pressure system with a pinpoint or variable-pattern nozzle. Dust formulation shall be limited to a maximum of 0.1 percent of the active ingredient by weight, applied using a hand duster, powder duster, or other equipment capable of applying dust insecticide directly into voids and cracks and crevices. Dust applications should be made in a manner to avoid deposits on exposed surfaces or introducing the material into the air. Application may be made provided exposed feed has been covered or removed from premises and excludes any direct application to feed. Reapplications may be made at 10-day intervals. Compliance with the tolerance level specified in this paragraph is to be determined by measuring only cyfluthrin, cyano(4-fluoro-3-phenoxyphenyl)methyl 3-(2,2-dichloroethenyl)-2,2-dimethylcyclopropanecarboxylate, in or on the commodity.

(4) Tolerances are established for residues of the insecticide beta-cyfluthrin, including its metabolites and degradates, in or on the commodities in the table in this paragraph. Compliance with the tolerance levels specified in this paragraph is to be determined by measuring only beta-cyfluthrin, cyano(4-fluoro-3-phenoxyphenyl)methyl 3-(2,2-dichloroethenyl)-2,2-dimethylcyclopropanecarboxylate [mixture comprising the enantiomeric pair (R)-α-cyano-4-fluoro-3-phenoxybenzyl (1S,3S)-3-(2,2-dichlorovinyl)-2,2-dimethylcyclopropanecarboxylate and (S)-α-cyano-4-fluoro-3-phenoxybenzyl (1R,3R)-3-(2,2-dichlorovinyl)-2,2-dimethylcyclopropanecarboxylate with the enantiomeric pair (R)-α-cyano-4-fluoro-3-phenoxybenzyl (1S,3R)-3-(2,2-dichlorovinyl)-2,2-dimethylcyclopropanecarboxylate and (S)-α-cyano-4-fluoro-3-phenoxybenzyl (1R,3S)-3-(2,2-dichlorovinyl)-2,2-dimethylcyclopropanecarboxylate], in or on the commodity.

* * * * *

10. Section 180.441 is amended as follows:

i. Revise the introductory text in paragraph (a)(1);

ii. Revise the introductory text in paragraph (a)(2);

iii. Revise the introductory text in paragraph (a)(3);

iv. Remove paragraph (a)(4);

v. Revise the introductory text in paragraph (c).

The revised text reads as follows:

§ 180.441 Quizalofop ethyl; tolerances for residues.

(a) * * * (1) Tolerances are established for residues of the herbicides quizalofop and quizalofop ethyl, including their metabolites and degradates, in or on the commodities in the table in this paragraph. Compliance with the tolerance levels specified in this paragraph is to be determined by measuring only the sum of quizalofop, 2-[4-[(6-chloro-2-quinoxalinyl)oxy]phenoxy]propanoic acid, and quizalofop ethyl, ethyl 2-[4-[(6-chloro-2-quinoxalinyl)oxy]phenoxy]propanoate, calculated as the stoichiometric equivalent of quizalofop ethyl, in or on the commodity.

* * * * *

(2) Tolerances are established for residues of the herbicides quizalofop, quizalofop ethyl, and quizalofop methyl, including their metabolites and degradates, in or on the commodities in the table in this paragraph. Compliance with the tolerance levels specified in this paragraph is to be determined by measuring only the sum of quizalofop, 2-[4-[(6-chloro-2-quinoxalinyl)oxy]phenoxy]propanoic acid, quizalofop ethyl, ethyl 2-[4-[(6-chloro-2-quinoxalinyl)oxy]phenoxy]propanoate, and quizalofop methyl, methyl 2-[4-[(6-chloro-2-quinoxalinyl)oxy]phenoxy]propanoate, calculated as the stoichiometric equivalent of quizalofop ethyl, in or on the commodity.

* * * * *

(3) Tolerances are established for residues of the herbicide quizalofop-p-ethyl ester, its metabolites and degradates, in or on the commodities in the table in this paragraph. Compliance with the tolerance levels specified in this paragraph is to be determined by measuring only the sum of quizalofop-p-ethyl ester, ethyl (2R)-2-[4-[(6-chloro-2-quinoxalinyl)oxy]phenoxy]propanoate, its acid metabolite quizalofop-p, (2R)-2-[4-[(6-chloro-2-quinoxalinyl)oxy]phenoxy]propanoic acid, and the S-enantiomers of both the ester and the acid, calculated as the stoichiometric equivalent of quizalofop-p-ethyl ester, in or on the commodity.

* * * * *

(c) Tolerances with regional registrations. A tolerance with a regional registration, as defined in § 180.1(l), is established for residues of the herbicide quizalofop-p-ethyl ester, its metabolites and degradates, in or on the commodity in the table in this paragraph. Compliance with the tolerance level specified in this paragraph is to be determined by measuring only the sum of quizalofop-p-ethyl ester, ethyl (2R)-2-[4-[(6-chloro-2-quinoxalinyl)oxy]phenoxy]propanoate, its acid metabolite quizalofop-p, (2R)-2-[4-[(6-chloro-2-quinoxalinyl)oxy]phenoxy]propanoic acid, and the S-enantiomers of both the ester and the acid, calculated as the stoichiometric equivalent of quizalofop-p-ethyl ester, in or on the commodity.

* * * * *

11. Section 180.442 is amended as follows:

i. Revise the introductory text in paragraph (a)(1);

ii. Revise paragraph (a)(2);

iii. Revise the introductory text in paragraph (b).

The revised text reads as follows:

§ 180.442 Bifenthrin; tolerances for residues.

(a) * * * (1) Tolerances are established for residues of the insecticide bifenthrin, including its metabolites and degradates, in or on the commodities in the table in this paragraph. Compliance with the tolerance levels specified in this paragraph is to be determined by measuring only bifenthrin, (2-methyl[1,1′-biphenyl]-3-yl)methyl (1R,3R)-rel-3-[(1Z)-2-chloro-3,3,3-trifluoro-1-propenyl]-2,2-dimethylcyclopropanecarboxylate, in or on the commodity.

* * * * *

(2) A tolerance of 0.05 parts per million is established for residues of the insecticide bifenthrin, including its metabolites and degradates, in or on all food/feed commodities (other than those covered by a higher tolerance as a result of use on growing crops) when present from application of bifenthrin in food/feed handling establishments (including food service, manufacturing and processing establishments, such as restaurants, cafeterias, supermarkets, bakeries, breweries, dairies, meat slaughtering and packing plants, and canneries, feed handling establishments including feed manufacturing and processing establishments), in accordance with the following conditions: Application shall be limited to general surface and spot and/or crack and crevice treatment in food/feed handling establishments where food/feed and food/feed products are held, processed, prepared, and served; general surface application may be used only when the facility is not in operation, provided exposed food/feed has been covered or removed from the area being treated; spot and/or crack and crevice application may be used while the facility is in operation provided exposed food/feed is covered or removed from the area being treated prior to application; spray concentration shall be limited to a maximum of 0.06 percent active ingredient; and contamination of food/feed or food/feed contact surfaces shall be avoided. Compliance with the tolerance level specified in this paragraph is to be determined by measuring only bifenthrin, (2-methyl[1,1′-biphenyl]-3-yl)methyl (1R,3R)-rel-3-[(1Z)-2-chloro-3,3,3-trifluoro-1-propenyl]-2,2-dimethylcyclopropanecarboxylate, in or on the commodity.

(b) Section 18 emergency exemptions. Time-limited tolerances are established for residues of the insecticide bifenthrin, including its metabolites and degradates, in or on the commodities in the table in this paragraph in connection with use of the pesticide under a Section 18 emergency exemption granted by EPA. Compliance with the tolerance levels specified in this paragraph is to be determined by measuring only bifenthrin, (2-methyl[1,1′-biphenyl]-3-yl)methyl (1R,3R)-rel-3-[(1Z)-2-chloro-3,3,3-trifluoro-1-propenyl]-2,2-dimethylcyclopropanecarboxylate, in or on the commodity. The tolerances will expire and are revoked on the date specified in the following table.

* * * * *

12. Section 180.466 is amended by revising the introductory text in paragraph (a) to read as follows:

§ 180.466 Fenpropathrin; tolerances for residues.

(a) General. Tolerances are established for residues of the insecticide fenpropathrin, including its metabolites and degradates, in or on the commodities in the table in this paragraph. Compliance with the tolerance levels specified in this paragraph is to be determined by measuring only fenpropathrin, cyano(3-phenoxyphenyl)methyl 2,2,3,3-tetramethylcyclopropanecarboxylate, in or on the commodity.

* * * * *

13. Section 180.494 is amended as follows:

i. Revise the introductory text in paragraph (a);

ii. Revise the introductory text in paragraph (c).

The revised text read as follows:

§ 180.494 Pyridaben; tolerances for residues.

(a) General. Tolerances are established for residues of the insecticide pyridaben, including its metabolites and degradates, in or on the commodities in the table in this paragraph. Compliance with the tolerance levels specified in this paragraph is to be determined by measuring only pyridaben, 4-chloro-2-(1,1-dimethylethyl)-5-[[[4-(1,1-dimethylethyl)phenyl]methyl]thio]-3(2H)-pyridazinone, in or on the plant commodity, and only the sum of pyridaben and its metabolites 2-tert-butyl-5-[4-(1-carboxy-1-methylethyl)benzylthio]-4-chloropyridazin-3(2H)-one and 2-tert-butyl-5-[4-(1,1-dimethyl-2-hydroxyethyl)benzylthio]-4-chloropyridazin-3(2H)-one, calculated as the stoichiometric equivalent of pyridaben, in or on the animal commodity.

* * * * *

(c) Tolerances with regional registrations. A tolerance with regional registration, as defined in § 180.1(l), is established for residues of the insecticide pyridaben, including its metabolites and degradates, in or on the commodity in the table in this paragraph. Compliance with the tolerance level specified in this paragraph is to be determined by measuring only pyridaben, 4-chloro-2-(1,1-dimethylethyl)-5-[[[4-(1,1-dimethylethyl)phenyl]methyl]thio]-3(2H)-pyridazinone, in or on the commodity.

* * * * *

14. Section 180.513 is amended as follows:

i. Revise the introductory text in paragraph (a)(1);

ii. Revise paragraph (a)(2).

The revised text reads as follows:

§ 180.513 Chlorfenapyr; tolerances for residues.

(a) * * * (1) A tolerance is established for residues of the insecticide chlorfenapyr, including its metabolites and degradates, in or on the commodity in the table in this paragraph. Compliance with the tolerance level specified in this paragraph is to be determined by measuring only chlorfenapyr, 4-bromo-2-(4-chlorophenyl)-1-(ethoxymethyl)-5-(trifluoromethyl)-1H-pyrrole-3-carbonitrile, in or on the commodity.

* * * * *

(2) A tolerance of 0.01 parts per million is established for residues of the insecticide chlorfenapyr, including its metabolites and degradates, in or on all food commodities (other than those covered by a higher tolerance as a result of use on growing crops) in accordance with the following conditions: Application shall be no greater than a 0.5% active ingredient solution for spot, crack and crevice use in food/feed handling areas where food/feed products are prepared, held, processed, or served; application may only be undertaken when the facility is not in operation, and provided exposed food/feed has been covered, or removed from the area being treated prior to application; food contact surfaces and equipment should be thoroughly washed with an effective cleaning compound, and rinsed with potable water after each use of the product; contamination of food/feed or food/feed contact surfaces shall be avoided; and application excludes any direct application to any food/feed, food/feed packaging, or any food/feed contact surfaces. Compliance with the tolerance level specified in this paragraph is to be determined by measuring only chlorfenapyr, 4-bromo-2-(4-chlorophenyl)-1-(ethoxymethyl)-5-(trifluoromethyl)-1H-pyrrole-3-carbonitrile, in or on the commodity.

* * * * *

15. Section 180.533 is amended as follows:

i. Revise the introductory text in paragraph (a)(1);

ii. Revise paragraph (a)(2);

iii. Revise the introductory text in paragraph (c).

The revised text reads as follows:

§ 180.533 Esfenvalerate; tolerances for residues.

(a) * * * (1) Tolerances are established for residues of the insecticide esfenvalerate, including its metabolites and degradates, in or on the commodities in the table in this paragraph. Compliance with the tolerance levels specified in this paragraph is to be determined by measuring only the sum of esfenvalerate, (S)-cyano(3-phenoxyphenyl)methyl (αS)-4-chloro-α-(1-methylethyl)benzeneacetate, its non-racemic isomer (R)-cyano(3-phenoxyphenyl)methyl-(R)-4-chloro-α-(1-methylethyl)benzeneacetate, and its diastereoisomers (S)-cyano(3-phenoxyphenyl)methyl-(R)-4-chloro-α-(1-methylethyl)benzeneacetate and (R)-cyano(3-phenoxyphenyl)methyl-(S)-4-chloro-α-(1-methylethyl)benzeneacetate, calculated as the stoichiometric equivalent of esfenvalerate, in or on the commodity.

* * * * *

(2) A tolerance of 0.05 parts per million in or on raw agricultural food commodities (other than those food commodities already covered by a higher tolerance as a result of use on growing crops) is established for residues of the insecticide esfenvalerate, including its metabolites and degradates, as a result of the use of esfenvalerate in food-handling establishments. Compliance with the tolerance levels specified in this paragraph is to be determined by measuring only the sum of esfenvalerate, (S)-cyano(3-phenoxyphenyl)methyl (S)-4-chloro-α-(1-methylethyl)benzeneacetate, its non-racemic isomer (R)-cyano(3-phenoxyphenyl)methyl-(R)-4-chloro-α-(1-methylethyl)benzeneacetate, and its diastereoisomers (S)-cyano(3-phenoxyphenyl)methyl-(R)-4-chloro-α-(1-methylethyl)benzeneacetate and (R)-cyano(3-phenoxyphenyl)methyl-(S)-4-chloro-α-(1-methylethyl)benzeneacetate, calculated as the stoichiometric equivalent of esfenvalerate, in or on the commodity.

* * * * *

(c) Tolerances with regional registrations. Tolerances with regional registration, as defined in § 180.1(l), are established for residues of the insecticide esfenvalerate, including its metabolites and degradates, in or on the commodities in the table in this paragraph. Compliance with the tolerance levels specified in this paragraph is to be determined by measuring only the sum of esfenvalerate, (S)-cyano(3-phenoxyphenyl)methyl (S)-4-chloro-α-(1-methylethyl)benzeneacetate, its non-racemic isomer (R)-cyano(3-phenoxyphenyl)methyl-(R)-4-chloro-α-(1-methylethyl)benzeneacetate, and its diastereoisomers (S)-cyano(3-phenoxyphenyl)methyl-(R)-4-chloro-α-(1-methylethyl)benzeneacetate and (R)-cyano(3-phenoxyphenyl)methyl-(S)-4-chloro-α-(1-methylethyl)benzeneacetate, calculated as the stoichiometric equivalent of esfenvalerate, in or on the commodity.

* * * * *

[FR Doc. 2011-14827 Filed 6-14-11; 8:45 am]

BILLING CODE 6560-50-P